NATIONAL AERONAUTICS AND SPACE ADMINISTRATION

[Notice (18-088)]

Notice of Intent To Grant Partially Exclusive Patent License

AGENCY: National Aeronautics and Space Administration.

ACTION: Notice of intent to grant partially exclusive patent license.

SUMMARY: NASA hereby gives notice of its intent to grant a partially exclusive patent license in the United States to practice the inventions described and claimed in U.S. Patent No. 7,655,595 for an invention entitled “Sol-Gel Based Oxidation Catalyst And Coating System Using Same,” which issued on February 2, 2010 (NASA Case Number LAR-17154-1); U.S. Patent No. 7,781,366 for an invention entitled “Sol-Gel Based Oxidation Catalyst And Coating System Using Same,” which issued on August 24, 2010 (NASA Case Number LAR-17154-2); U.S. Patent No. 6,753,293 for an invention entitled “Process For Coating Substrates With Catalytic Materials,” which was issued on June 22, 2004 (NASA Case Number LAR-15851-1-CU); U.S. Patent No. 7,390,768 for an invention entitled “Stabilized Tin-Oxide-Based Oxidation/Reduction Catalysts” which issued on June 24, 2008 (NASA Case Number LAR-16307-1-SB); U.S. Patent No. 7,985,709 for an invention entitled “Methodology For The Effective Stabilization Of Tin-Oxide-Based Oxidation/Reduction Catalysts” which was issued on July 26, 2011 (NASA Case Number LAR-16307-2); U.S. Patent No. 7,371,358 for an invention entitled “Catalyst For Treatment And Control Of Post-Combustion Emissions” which was issued on May 13, 2008 (NASA Case Number LAR-16001-1); U.S. Patent No. 9,044,743 for an invention entitled “Catalyst For Decomposition Of Nitrogen Oxides” which issued on June 2, 2015 (NASA Case Number LAR-16308-2); and U.S. Patent No. 7,318,915 for an invention entitled “Oxidation-Reduction Catalyst And Its Process Of Use” which was issued on January 15, 2008 (NASA Case Number LAR-16390-1), to Sally R, a corporation of the Country of Sweden, having its principal place of business at Hasslogatan 20 Vasteras, Vastmanland Sweden 72131. The fields of use may be limited to Heating Ventilation and Air Conditioning and/or similar fields of use thereto.

DATES: The prospective partially exclusive patent license may be granted unless NASA receives written objections, including evidence and argument, no later than November 23, 2018 that establish that the grant of the license would not be consistent with the requirements regarding the licensing of federally owned inventions as set forth in the Bayh-Dohl Act and implementing regulations. Competing applications completed and received by NASA no later than November 23, 2018 will also be treated as objections to the grant of the contemplated partially exclusive patent license. Objections submitted in response to this notice will not be made available to the public for inspection and, to the extent permitted by law, will not be released under the Freedom of Information Act.

ADDRESSES: Objections relating to the prospective license may be submitted to Patent Counsel, Office of Chief Counsel, NASA Langley Research Center, MS 30, Hampton, Virginia 23681. Phone (757) 864-3221. Facsimile (757) 864-9190.

FOR FURTHER INFORMATION CONTACT: Jonathan B. Soike, Patent Attorney, Office of Chief Counsel, NASA Langley Research Center, MS 30, Hampton, Virginia 23681. Phone (757) 864-7863. Facsimile (757) 864-9190.

SUPPLEMENTARY INFORMATION: This notice of intent to grant a partially exclusive patent license is issued in accordance with 35 U.S.C. 209(e) and 37 CFR 404.7(a)(1)(i). The patent rights in these inventions have been assigned to the United States of America as represented by the Administrator of the National Aeronautics and Space Administration. The prospective partially exclusive patent license will comply with the requirements of 35 U.S.C. 209 and 37 CFR 404.7. Information about other NASA inventions available for licensing can be found online at http://technology.nasa.gov.

Mark Dvorscak,
Agency Counsel for Intellectual Property.

[FR Doc. 2018-24323 Filed 11-6-18; 8:45 am]

BILLING CODE 7510-13-P